DEPARTMENT OF THE TREASURY

Internal Revenue Service

Community Volunteer Income Tax Assistance (VITA) Matching Grant Program—Availability of Application for Federal Financial Assistance

AGENCY: Internal Revenue Service (IRS), Treasury.

ACTION: Notice.

SUMMARY: This document provides notice of the availability of the application package for the 2016 Community Volunteer Income Tax Assistance (VITA) Matching Grant Program.

DATES: Application instructions are available electronically from the IRS on May 1, 2015 by visiting: IRS.gov (key word search—“VITA Grant”). Application packages are available on May 1, 2015 by visiting Grants.gov and searching with the Catalog of Federal Domestic Assistance (CFDA) number 21.009. The deadline for submitting an application to the IRS through Grants.gov for the Community VITA Matching Grant Program is May 31, 2015. However, because this date falls on a non-workday the deadline is being extended until Monday, June 1, 2015. All applications must be submitted through Grants.gov.

ADDRESSES: Internal Revenue Service, Grant Program Office, 401 West Peachtree St. NW., Suite 1645, Stop 420-D, Atlanta, GA 30308.

FOR FURTHER INFORMATION CONTACT: Grant Program Office via their email address at Grant.Program.Office@irs.gov.

SUPPLEMENTARY INFORMATION: Authority for the Community Volunteer Income Tax Assistance (VITA) Matching Grant Program is contained in the Consolidated and Further Continuing Appropriations Act, 2015, Public Law 113-235, signed December 16, 2014.

Dated: March 23, 2015.
Mikki Betker,
Chief, Grant Program Office, IRS, Stakeholder Partnerships, Education & Communication.

[FR Doc. 2015-07589 Filed 4-1-15; 8:45 am]

BILLING CODE CODE 4830-01-P